DEPARTMENT OF THE INTERIOR

National Park Service

Notice of Intent to Repatriate Cultural Items: U.S. Department of Agriculture, Forest Service, Coronado National Forest, Tucson, AZ and Arizona State Museum, University of Arizona, Tucson, AZ

AGENCY: National Park Service, Interior.

ACTION: Notice.

Notice is here given in accordance with the Native American Graves Protection and Repatriation Act (NAGPRA), 25 U.S.C. 3005, of the intent to repatriate cultural items in the control of the U.S. Department of Agriculture, Forest Service, Coronado National Forest, Tucson, AZ, and in the possession of the Arizona State Museum, University of Arizona, Tucson, AZ, that meets the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

Between 1979 and 1980, two cultural items were removed from a prehistoric site (EE:2:79) within the ANAMAX-Rosemont Project in the Santa Rita Mountains, Coronado National Forest, Pima County, AZ, during legally authorized excavations by the Arizona State Museum, University of Arizona. The two unassociated funerary objects are a ceramic bowl and charcoal.

Between 1979 and 1980, one cultural item was removed from a prehistoric site (EE:2:113) within the ANAMAX-Rosemont Project in the Santa Rita Mountains, Coronado National Forest, Pima County, AZ, during legally authorized excavations by the Arizona State Museum, University of Arizona. The one unassociated funerary object is a stone palette.

The three cultural items have remained in the possession of the Arizona State Museum since their excavation. Based on architecture, material culture and site organization, the two sites (EE:2:79 and EE:2:113) within the ANAMAX-Rosemont Project have been identified as Pre-Classic Hohokam village occupations dating between A.D. 450 and 1150. Continuities of ethnographic materials, technology and architecture indicate the affiliation of Hohokam sites in the area of the Anamax-Rosemont Project with present-day O'odham cultures. The oral traditions of the Ak-Chin Indian Community of the Maricopa (Ak Chin) Indian Reservation, Arizona; Gila River Indian Community of the Gila River Indian Reservation, Arizona; Salt River Pima-Maricopa Indian Community of the Salt River Reservation, Arizona; and Tohono O'odham Nation, Arizona, support the cultural affiliation of these four Indian tribes with Hohokam sites in this area of southeastern Arizona. The oral traditions of the Hopi Tribe of Arizona and Zuni Tribe of the Zuni Reservation, New Mexico indicate some cultural ties or relationships to certain portions of southeastern Arizona in the late Post-Classic Period (A.D. 1300-1450). While the Hopi Tribe and Zuni Tribe have cultural ties to certain portions of southeastern Arizona in the late Pre-Classic Period, the Ak-Chin Indian Community of the Maricopa (Ak Chin) Indian Reservation, Arizona; Gila River Indian Community of the Gila River Indian Reservation, Arizona; Salt River Pima-Maricopa Indian Community of the Salt River Reservation, Arizona; and Tohono O'odham Nation, Arizona, have a closer cultural relationship and affiliation with these Pre-Classic Period sites within the ANAMAX-Rosemont Project.

Officials of the U.S. Department of Agriculture, Forest Service, Coronado National Forest have determined that, pursuant to 25 U.S.C. 3001 (3)(B), the three cultural items described above are reasonably believed to have been placed with or near individual human remains at the time of death or later as part of the death rite or ceremony and are believed, by a preponderance of the evidence, to have been removed from a specific burial site of a Native American individual. Officials of the U.S. Department of Agriculture, Forest Service, Coronado National Forest also have determined that, pursuant to 25 U.S.C. 3001 (2), there is a relationship of shared group identity that can be reasonably traced between the unassociated funerary objects and the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation, Arizona; and Zuni Tribe of the Zuni Reservation, New Mexico.

Representatives of any other Indian tribe that believes itself to be culturally affiliated with the unassociated funerary objects should contact Dr. Frank E. Wozniak, NAGPRA Coordinator, Southwestern Region, USDA Forest Service, 333 Broadway Blvd., SE, Albuquerque, NM 87102, telephone (505) 842-3238, before April 13, 2009. Repatriation of the unassociated funerary objects to the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation, Arizona; and Zuni Tribe of the Zuni Reservation, New Mexico may proceed after that date if no additional claimants come forward.

The U.S. Department of Agriculture, Forest Service, Coronado National Forest is responsible for notifying the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation, Arizona; and Zuni Tribe of the Zuni Reservation, New Mexico that this notice has been published.

Dated: February 12, 2009
Sangita Chari,
Acting Manager, National NAGPRA Program.

[FR Doc. E9-5337 Filed 3-11-09; 8:45 am]

BILLING CODE 4312-50-S